DEPARTMENT OF HOMELAND SECURITY

Bureau of Customs and Border Protection

Notice of Cancellation of Customs Broker Permit

AGENCY: Bureau of Customs and Border Protection, U.S. Department of Homeland Security.

ACTION: General notice.

SUMMARY: Pursuant to section 641 of the Tariff Act of 1930, as amended, (19 U.S.C. 1641) and the Customs Regulations (19 CFR 111.51), the following Customs broker permits are cancelled without prejudice.

Name | Permit No. | Issuing port
World Broker Puerto Rico, Inc | 4902AHE | San Juan.
BDP International | 1101 | San Francisco.
World Asia Logistics, Inc | 99-00281 | Washington, DC.
John M. Schepers | 20012 | Los Angeles.
Menlo Worldwide Trade Services, Inc | 94-17-010 | Atlanta.
Masterpiece International, Ltd | 17-04-D52 | Atlanta.
Cavalier International Air Freight, Inc | 17-03-HTD | Atlanta.
Jorge Diaz | 23-04-BGP | Laredo.
Stephen A. Sowda | 53-03-BCW | Houston.
Menlo Worldwide Trade Services, Inc | 86029 | Houston.
Thomas A. Barnhart | 04-00228 | Washington, DC.
HYC Logistics, Inc | 995 | New York.
Guy Perego dba
Stella International | 28-04-BJW | San Francisco.
J.M. Rodgers Co., Inc | 14203 | Detroit.

Dated: August 15, 2005.
Jayson P. Ahern,
Assistant Commissioner, Office of Field Operations.

[FR Doc. 05-16724 Filed 8-22-05; 8:45 am]

BILLING CODE 9110-06-P